DEPARTMENT OF DEFENSE

Department of the Army

Draft Environmental Impact Statement for the Modernization and Repair of Piers 2 and 3, Military Ocean Terminal Concord, CA

AGENCY: Department of the Army, DoD.

ACTION: Notice of Availability.

SUMMARY: The Department of the Army announces the availability of the Draft Environmental Impact Statement (DEIS) for the Modernization and Repair of Piers 2 and 3 at Military Ocean Terminal Concord (MOTCO). The DEIS evaluates the potential environmental and socioeconomic effects that could result from the partial demolition of existing Pier 2 and reconstruction of structural elements; replacement of pier-side infrastructure and supporting facilities at Pier 2; upgrades to shore-side roads and electrical infrastructure in the immediate vicinity of Piers 2 and 3; removal and replacement/repair of piles and selected structural elements at Pier 3; and maintenance dredging to −32 feet mean lower low water plus 2 feet overdepth dredging at select areas around Pier 2 (up to 3,800 cubic yards). Environmental consequences were evaluated for noise; air quality; geology, topography, and soils; water resources; biological resources; land use and coastal zone management; transportation; infrastructure; visual resources; recreational resources; socioeconomics; environmental justice and protection of children; cultural resources; and hazardous materials, hazardous waste, toxic substances, and contaminated sites. Based on the analysis described in the DEIS, all impacts are anticipated to be less than significant.

The DEIS evaluates the potential environmental and socioeconomic effects of three action alternatives and the No Action Alternative. Alternative 1 fully implements repairs to Piers 2 and 3 with Pier 2 re-oriented to align the west end with the existing shipping channel to create a more modernized configuration. Alternative 2 would use the same structural system as Alternative 1 and fully implement repairs to Piers 2 and 3; however, the Pier 2 footprint would remain in its present location. Alternative 3 would fully implement repairs to Piers 2 and 3, reorienting Pier 2 to create a more modernized configuration but with a larger deck surface and heavier load-carrying capacity than that proposed under Alternative 1. Under the No Action Alternative, the modernization and repair of Pier 2 and the repair of Pier 3 at MOTCO would not occur, and Pier 3 would continue to be used with loading restrictions for the remainder of its service life (estimated to be 2019).

DATES: The public comment period will end 45 days after publication of the Notice of Availability in the Federal Register by the U.S. Environmental Protection Agency.

ADDRESSES: Please submit written comments to Mr. Malcolm Charles, Director of Public Works, Attention: SDAT-CCA-MI (Charles), 410 Norman Avenue, Concord, CA 94520; email comments to usarmy.motco.sddc.mbx.list-eis@mail.mil; or fax comments to (925) 246-4171 (Attention: SDAT-CCA-MI [Charles]).

FOR FURTHER INFORMATION CONTACT: Mr. Mitch Chandran, Public Affairs Office, Surface Deployment and Distribution Command; telephone: (618) 220-5704 or (618) 220-6284; email: mitchell.b.chandran.civ@mail.mil.

SUPPLEMENTARY INFORMATION: The purpose of the proposed action is to modernize and repair Pier 2 and repair Pier 3 so the Army can maintain its ability to meet documented Department of Defense (DoD) mission requirements in support of wartime and contingency operations. Piers 2 and 3 were built in the mid-1940s. Both piers are past their structural and design life and lack modern operational efficiencies. Pier 2, the optimum operational pier for mission capability, cannot be used due to its currently degraded and nonoperational condition. Pier 3, currently the primary operational pier at MOTCO, requires repair to maintain limited operational capability through 2019. The proposed action is therefore needed to modernize and repair pier infrastructure at MOTCO to ensure this vital West Coast port can continue to meet its designated mission. Without these actions, the DoD's ability to perform its current and future contingency operations in the Pacific theater would be impacted.

The DEIS was prepared in accordance with the National Environmental Policy Act (NEPA) (42 United States Code 4321 et seq.); the Council on Environmental Quality regulations implementing NEPA (40 Code of Federal Regulations [CFR] Parts 1500-1508), and the Army's regulations implementing NEPA (32 CFR Part 651 as published in Federal Register, Volume 67, Pages 15290-15332). The purpose of the DEIS is to inform the decision maker; federally recognized Native American tribes, federal, state, and local agencies and officials; and interested groups and individuals of possible environmental and socioeconomic consequences associated with the proposed action.

Based on a thorough review of the alternatives, the Army at this point has determined Alternative 1 to be its Preferred Alternative. Alternative 1 accomplishes all of the basic requirements for modernizing Pier 2 and re-orients the pier to provide more efficient access for the types of vessels that use the pier.

The Army has entered into consultation concerning the proposed action as required by Section 106 of the National Historic Preservation Act and its implementing regulations (36 CFR Part 800) regarding the Army's determination that the proposed action would have no adverse effect on cultural resources or historic properties. The Army has also entered into consultation with the National Marine Fisheries Service (NMFS) and the U.S. Fish and Wildlife Service (USFWS) as required by Section 7 of the Endangered Species Act regarding the Army's determination that the proposed action may affect threatened and endangered species. The proposed action will include implementation of avoidance and minimization measures for potential impacts to federally listed species and critical habitat; these measures will be further refined during consultations with NMFS and USFWS.

The Army invites federally recognized Native American tribes; federal, state, and local agencies and officials; and interested groups and individuals to submit written comments and to participate in a public meeting where oral and written comments and suggestions will be received concerning the alternatives and analysis addressed in the DEIS and to fulfill public involvement requirements under Section 106 of the National Historic Preservation Act. The Army will conduct a public meeting on the DEIS in Bay Point, California, with the date and location being announced in the local news media. All comments submitted during the public review period will become part of the public record on the DEIS and will be responded to in the Final EIS.

Copies of the DEIS are available for public review at the following two Contra Costa County libraries: Concord Library, 2900 Salvio Street, Concord, CA 94519 and Bay Point Library, 205 Pacifica Avenue, Bay Point, CA 94565. The DEIS may also be reviewed electronically at http://www.sddc.army.mil/MOTCO/default.aspx.

Brenda S. Bowen,
Army Federal Register Liaison Officer.

[FR Doc. 2013-27852 Filed 11-21-13; 8:45 am]

BILLING CODE 3710-08-P